DEPARTMENT OF AGRICULTURE

Grain Inspection, Packers and Stockyards Administration

Solicitation of Nominations for Members of the Grain Inspection Advisory Committee

AGENCY: Grain Inspection, Packers and Stockyards Administration, USDA.

ACTION: Notice to solicit nominees.

SUMMARY: We are seeking nominations for people to serve on GIPSA's Grain Inspection Advisory Committee. The Grain Inspection Advisory Committee meets twice annually to advise GIPSA on the programs and services we deliver under the U.S. Grain Standards Act. Recommendations by the committee help us to better meet the needs of our customers who operate in a dynamic and changing marketplace.

DATES: We will consider nominations (Form AD-755) we receive by October 19, 2007.

ADDRESSES: We invite you to submit nominations for the Grain Inspection Advisory Committee. You may submit nominations (completed AD-755) by any of the following methods:

• E-Mail: Send Form AD-755 via electronic mail to Terri.L.Henry@usda.gov.

• Mail: Send hardcopy of Form AD-755 to Terri Henry, GIPSA, USDA, 1400 Independence Ave., SW., Room 1633-S, Stop 3642, Washington, DC 20250-3642.

• Fax: Send Form AD-755 by facsimile transmission to: (202) 690-2173.

• Hand Delivery or Courier: Deliver Form AD-755 to: Terri Henry, GIPSA, USDA, 1400 Independence Ave., SW., Room 1633-S, Stop 3642, Washington, DC 20250-3642.

• Federal eRulemaking Portal: Go to http://www.regulation.gov. Follow the on-line instruction for submitting comments. You may send a completed AD-755 through this Web site.

FOR FURTHER INFORMATION CONTACT: Terri L. Henry, (202) 205-8281 or by e-mail at Terri.L.Henry@usda.gov.

SUPPLEMENTARY INFORMATION: As required by section 21 of the United States Grain Standards Act (USGSA) as amended, (7 U.S.C. 87j) the Secretary of Agriculture established the Grain Inspection Advisory Committee (Advisory Committee) on September 29, 1981, to provide advice to the Administrator on implementation of USGSA. Currently, the authority for the Advisory Committee expires on September 30, 2015. As specified in USGSA, each member's term is 3 years and no member may serve successive terms.

As required by USGSA, the Advisory Committee presently consists of 15 members, appointed by the Secretary, who represent the interests of grain producers, processors, handlers, merchandisers, consumers, and exporters, including scientists with expertise in research related to the policies in section 2 of USGSA (7 U.S.C. 74). Members of the Advisory Committee serve without compensation. USDA may reimburse members for travel expenses, including per diem in lieu of subsistence, for travel away from their homes or regular places of business in performance of Advisory Committee service, (see 5 U.S.C. 5703).

A list of current Advisory Committee members and other relevant information are available on the GIPSA Web site. Go to http://www.gipsa.usda.gov and under the section I Want To . . . click on Learn about the Advisory Committee.

We are seeking nominations for people to serve on the Advisory Committee to replace the five members and the five alternate members whose terms will expire in March 2008.

If you are interested in serving on the Advisory Committee or nominating someone else to serve, contact: GIPSA, by telephone (tel: 202-205-8281), fax (fax: 202-690-2173), or electronic mail (e-mail: Terri.L.Henry@usda.gov) and request Form AD-755. Form AD-755 may also be obtained via the Internet on GIPSA's Web site. Go to http://www.gipsa.usda.gov and under the section I Want To . . . click on Learn about the Advisory Committee then click on Form AD-755. Nominations are open to all individuals without regard to race, color, religion, sex, national origin, age, mental or physical handicap, marital status, or sexual orientation. To ensure that recommendations of the Committee take into account the needs of the diverse groups served by the Department, membership shall include, to the extent practicable, individuals with demonstrated ability to represent minorities, women, and persons with disabilities.

The final selection of Advisory Committee members and alternates will be made by the Secretary.

James E. Link,
Administrator, Grain Inspection, Packers and Stockyards Administration.

[FR Doc. E7-16294 Filed 8-17-07; 8:45 am]

BILLING CODE 3410-KD-P